DEPARTMENT OF COMMERCE

Economic Development Administration

Notice of Petitions by Producing Firms for Determination of Eligibility to Apply for Trade Adjustment Assistance

AGENCY: Economic Development Administration (EDA), Commerce.

ACTION: To give all interested parties an opportunity to comment.

Petitions have been accepted for filing on the dates indicated from the firms listed below.

List of Petition Action By Trade Adjustment Assistance for Period May 20, 2003-June 20, 2003
Firm name | Address | Date petition accepted | Product
Eastern Reproduction Corp | 1250 Main Street, Waltham, MA 02451 | 29-May-03 | Metal Christmas ornaments.
Klitzner Industries, Inc | 44 Warren Street, Providence, RI 02901 | 03-Jun-03 | Jewelry and personal accessories, house and, i.e., desk accessories, and other accessories, wallets, pocket watches, belt buckles, umbrellas, etc.
Ormec Systems Corp | 19 Linden Park, Rochester, NY 14625 | 03-Jun-03 | High performance, computer controllable motion control products.
Micro Rim Corporation | 221 Victor Avenue, Highland Park, MI 48203 | 03-Jun-03 | Polyurethane automotive bumpers.
Durand-Wayland, Inc | 101 Duran Road, Lagrange, GA 30240 | 03-Jun-03 | Machines for cleaning, sorting or grading fruit or other agricultural produce.
Quality Metal Finishing Company | 4th and Walnut Streets, Byron, IL 61010 | 29-May-03 | Zinc die cast faucet components.
Kopp Glass, Inc | 2108 Palmer Street, Pittsburgh, PA 15218 | 03-Jun-03 | Industrial glass parts for airport runway lighting, traffic signals and industrial lighting.
Top Tool Company, Inc | 3100 84th Lane NE, Blaine, MN 55449 | 03-Jun-03 | Stamping dies for use on stamping machines.
Bertsche Engineering Corporation | 711 Dartmouth Lane, Buffalo Grove, IL 60089 | 03-Jun-03 | CNC vertical machining centers, and parts.
Glenro, Inc | 39 McBride Avenue, Paterson, NJ 07501 | 03-Jun-03 | Infrared and hot air heating equipment, oxidation and lamination equipment.
Rennoc Corporation | 3501 South East Blvd., Vineland, NJ 08360 | 03-Jun-03 | Team jackets of wool, leather, and poly, and running suits and wind shirts of nylon.
Laser Light Technologies, Inc | 5 Danuser Drive, Hermann, MO 65041 | 13-Jun-03 | Haptics for the ophthalmic industry.
Gala Industries | 181 Pauley Street, Eagle Rock, VA 23085 | 06-Jun-03 | Machinery used in the plastics industry.
Gilliam-Ivey Woodcrafts, Inc | 138 Lam Plant Road, Windsor, NC 27938 | 09-Jun-03 | Wooden furniture for the bedroom, living room, and dining rooms.
Sunset Metal Works, Inc | 221 Sunset Boulevard West, Chambersburg, PA 17201 | 20-Jun-03 | Steel parts for road machinery equipment.
Quadrant Tool and Manufacturing Co., Inc | 1720 W. Irving Park Road, Schaumburg, IL 60193 | 12-Jun-03 | Components of welding equipment, machined of metal.
Hawthorn Missouri, Inc | 1 Hawthorn Drive, Hermann, MO 65041 | 16-Jun-03 | Canvas and vinyl tarpaulins.
Village Smith, L.P | 3500 N. Hawthorne Street, Chattanooga, TN 37406 | 13-Jun-03 | Household metal furniture, including tables, chairs, bakers racks and stools.
Old Alazan Company | 12281 North Loop, Clint, TX 79836 | 19-Jun-03 | Texas bluebonnets.
Leisters Furniture, Inc | 433 Ridge Avenue, Hanover, PA 17331 | 19-Jun-03 | Household furniture of wood —occasional tables, home entertainment tables and accessories.
Misty Mountain Manufacturing Company | 6264 Stanley Avenue S., Seattle, WA 98108 | 19-Jun-03 | Cotton bags.
Hater Industries, Inc | 8911 Martin Road, Charlevoix, MI 49729 | 20-Jun-03 | Master cylinder brake parts made by aluminum casting.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: June 24, 2003.
Anthony J. Meyer,
Coordinator, Trade Adjustment and Technical Assistance.

[FR Doc. 03-16406 Filed 6-27-03; 8:45 am]

BILLING CODE 3510-24-P